DEPARTMENT OF EDUCATION

Privacy Act of 1974; Computer Matching Program

AGENCY: Department of Education.

ACTION: Notice of computer matching program between the U.S. Department of Education (ED), and the U.S. Department of Health and Human Services (HHS), Administration for Children and Families (ACF), Office of Child Support Enforcement (OCSE).

SUMMARY: Pursuant to the Computer Matching and Privacy Protection Act of 1988, Pub. L. 100-503, and the Office of Management and Budget (OMB) Final Guidance Interpreting the Provisions of Public Law 100-503, the Computer Matching and Privacy Protection Act of 1988, 54 FR 25818 (June 19, 1989), this document gives notice of a computer matching program between ED and HHS/ACF/OCSE.

This computer matching program between the two agencies will become effective, as indicated in paragraph six of this notice. In accordance with the Privacy Act of 1974, as amended (5 U.S.C. 552a), OMB Final Guidance Interpreting the Provisions of Public Law 100-503, the Computer Matching and Privacy Protection Act of 1988, 54 FR 25818 (June 19, 1989), and OMB Circular No. A-130, Appendix I (65 FR 77677 (December 12, 2000)), we provide the following information:

1. Names of Participating Agencies

The U.S. Department of Education (ED) is the source agency; and the U.S. Department of Health and Human Services (HHS), Administration for Children and Families (ACF), Office of Child Support Enforcement (OCSE), is the recipient agency.

2. Purpose of Matching Program

The purpose of the matching program is to obtain address and employment information on individuals who owe funds to the Federal government for defaulted student loans or grant overpayments awarded under Title IV of the Higher Education Act of 1965, as amended. ED will use this information to initiate independent collection of these debts under the provisions of the Debt Collection Improvement Act of 1982 when voluntary payment is not forthcoming. For individuals whose annualized wage level exceeds $16,000, these collection efforts will include orders by ED, the U.S. Department of Justice (DOJ); or a guaranty agency to the employing entity, pursuant to statutory, non-judicial, administrative wage garnishment authority, to withhold a portion of the disposable pay of the debtor until such time as the obligation is paid in full.

3. Authority for Conducting the Matching Program

The legal authority for HHS and ED to conduct this matching program is contained in the Social Security Act (42 U.S.C. 653(j)(6)).

4. Categories of Records and Individuals Covered by the Matching Program

The current systems of records maintained by the respective agencies under the Privacy Act of 1974, as amended, 5 U.S.C. 552a, from which records will be disclosed for the purpose of this computer matching program are as follows:

ED: Student Financial Assistance Collection Files (18-11-07), 64 FR 30166-30169 (June 4, 1999), as amended, 64 FR 72407 (December 27, 1999). (ED has published a notice of a new system of records entitled the Common Services for Borrowers (CSB) system (18-11-16), 71 FR 3503 (January 23, 2006), which, once it is fully phased in, will replace ED's Student Financial Assistance Collection Files system of records.)

OCSE: The National Directory of New Hires database maintained in the Location and Collection System (09-90-0074), 70 FR 21200 (April 25, 2005).

5. Description of Computer Matching Program

ED administers student financial assistance programs under the Higher Education Act of 1965, as amended (HEA). OCSE maintains a database that consists of three separate components. The first component, the new hire or “W4” file, contains all newly hired employees as reported from the State Directory of New Hires (SDNH) and directly from Federal agencies. The second component, the quarterly wage or “QW” file, contains quarterly wage information on individual employees, as received from Federal agencies and States. The third component, the unemployment insurance or “UI” file, contains unemployment insurance information on individuals who have received, or made application for, unemployment benefits, as reported by the State Workforce Agency or other State agencies responsible for the implementation of the Unemployment Insurance Program.

This matching agreement between ED and HHS/ACF/OCSE will assist ED, and other entities with whom ED shares the data, in locating and collecting funds from those individuals who are in default on loans awarded under Title IV of the HEA or owe an obligation to refund an overpayment of a grant awarded under Title IV of the HEA. The primary identifying elements that the two agencies will match are:

ED: First and Last Name, and Social Security Number (SSN) of delinquent debtors. OCSE: First and Last Name, and SSN of all current and newly hired employees and claimants for unemployment insurance benefits. OCSE will verify the Name and SSN combination, and perform the computer match using all nine digits of the SSN of the ED file against the OCSE computer database. OCSE will produce a file containing the name, SSN, address, employer, wage amount, and employer's address for each individual identified, based on the match. The file containing the results of the match will be provided to ED.

ED is responsible for determining whether the data in the NDNH reply file is consistent with ED's source file and for resolving any discrepancies or inconsistencies on an individual basis. ED will also be responsible for ensuring that no adverse action is taken against any individual, as a result of information produced by the matching program, until the information has been independently verified and the individual receives a notice from ED containing a statement of its findings and informing the individual of the opportunity to contest such findings.

6. Effective Dates of the Matching Program

The matching program will become effective on (1) May 16, 2006; (2) 30 days after publication of this notice in the Federal Register; or (3) 40 days after the signing of the transmittal letters sending the computer matching program report to Congress and OMB, unless OMB disapproves the agreement within the 40 day review period or grants a waiver of 10 days of the review period, whichever date occurs last. The matching program will continue for 18 months after the effective date, and may be extended for an additional 12 months thereafter, if the conditions specified in 5 U.S.C. 552a(o)(2)(D) have been met.

7. Address for Receipt of Public Comments or Inquiries

If you wish to comment on this matching program or obtain additional information about the program including a copy of the computer matching agreement between ED and HHS/ACF/OCSE, contact Marian E. Currie, Management and Program Analyst, U.S. Department of Education, Federal Student Aid, 400 Maryland Avenue, SW., Union Center Plaza, room 41B4, Washington, DC 20202-5320, Telephone: (202) 377-3212; or, as a secondary contact: Naomi Randolph, Supervisory, Management and Program Analyst, U.S. Department of Education, Federal Student Aid, 400 Maryland Avenue, SW., Union Center Plaza, room 44E3, Washington, DC 20202-5320, Telephone: (202) 377-4367.

If you use a Telecommunications Device for the Deaf (TDD), you may call the Federal Relay Service (FRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: http://www.ed.gov/news/fedregister/index.html.

To use PDF you must have the Adobe Acrobat Reader, which is available free at this site. If you have questions about using PDF, call the U.S. Government Printing Office (GPO), toll free, at 1-888-293-6498; or in the Washington, DC area at (202) 512-1530.

You may also view this document in text or PDF at the following site: http://ifap.ed.gov/IFAPWebApp/currentFRegistersPag.jsp.

Note: The official version of this document is the document published in the Federal Register. Free Internet access to the official edition of the Federal Register and the Code of Federal Regulations is available on GPO Access at: http://www.gpoaccess.gov/nara/index.html.

Dated: May 4, 2006.
Theresa S. Shaw,
Chief Operating Officer, Federal Student Aid.

[FR Doc. E6-7048 Filed 5-8-06; 8:45 am]

BILLING CODE 4000-01-P